DEPARTMENT OF ENERGY

10 CFR Part 431

[EERE-2022-BT-STD-0015]

RIN 1904-AF34

Energy Conservation Program: Energy Conservation Standards for Air-Cooled Commercial Package Air Conditioners and Heat Pumps

AGENCY: Office of Energy Efficiency and Renewable Energy, Department of Energy.

ACTION: Direct final rule; confirmation of effective and compliance dates.

SUMMARY: The U.S. Department of Energy (“DOE”) published a direct final rule to establish amended energy conservation standards for air-cooled commercial package air conditioners and heat pumps with a rated cooling capacity greater than or equal to 65,000 Btu/h in the Federal Register on May 20, 2024. DOE has determined that the comments received in response to the direct final rule do not provide a reasonable basis for withdrawing the direct final rule. Therefore, DOE provides this document confirming the effective and compliance dates of those standards.

DATES: The effective date of September 17, 2024, for the direct final rule published on May 20, 2024, (89 FR 44052) is confirmed. Compliance with the standards established in the direct final rule will be required on and after January 1, 2029.

ADDRESSES: The docket for this rulemaking, which includes Federal Register notices, public meeting attendee lists and transcripts, comments, and other supporting documents/materials, is available for review at www.regulations.gov. All documents in the docket are listed in the www.regulations.gov index. However, not all documents listed in the index may be publicly available, such as information that is exempt from public disclosure.

The docket web page can be found at www.regulations.gov/docket/EERE-2022-BT-STD-0015. The docket webpage contains instructions on how to access all documents, including public comments, in the docket.

For further information on how to submit a comment or review other public comments and the docket, contact the Appliance and Equipment Standards Program staff at (202) 287-1445 or by email: ApplianceStandardsQuestions@ee.doe.gov.

FOR FURTHER INFORMATION CONTACT:

Dr. Pradeep Prathibha, U.S. Department of Energy, Office of Energy Efficiency and Renewable Energy, Building Technologies Office, EE-5B, 1000 Independence Avenue SW, Washington, DC 20585-0121. Telephone: (240) 255-0630. Email: ApplianceStandardsQuestions@ee.doe.gov.

Mr. Eric Stas, U.S. Department of Energy, Office of the General Counsel, GC-33, 1000 Independence Avenue SW, Washington, DC 20585-0121. Telephone: (202) 586-4798. Email: Eric.Stas@hq.doe.gov.

SUPPLEMENTARY INFORMATION:

Table of Contents

I. Authority

II. Air-Cooled Commercial Unitary Air Conditioners and Heat Pumps Direct Final Rule

A. Background

III. Comments on the Direct Final Rule

A. General Comments

B. Certification

IV. Impact of Any Lessening of Competition

V. Conclusion

I. Authority

The Energy Policy and Conservation Act, Public Law 94-163, as amended (“EPCA”),¹ authorizes DOE to issue a direct final rule establishing an energy conservation standard for covered equipment on receipt of a statement submitted jointly by interested persons that are fairly representative of relevant points of view (including representatives of manufacturers of covered equipment, States, and efficiency advocates), as determined by the Secretary of Energy (“Secretary”), that contains recommendations with respect to an energy or water conservation standard that are in accordance with the provisions of 42 U.S.C. 6295(o) or 42 U.S.C. 6313(a)(6)(B), as applicable. (42 U.S.C. 6316(b)(1); 42 U.S.C. 6295(p)(4))

¹ All references to EPCA in this document refer to the statute as amended through the Energy Act of 2020, Public Law 116-260 (Dec. 27, 2020), which reflect the last statutory amendments that impact Parts A and A-1 of EPCA.

The direct final rule must be published simultaneously with a notice of proposed rulemaking (“NOPR”) that proposes an energy or water conservation standard that is identical to the standard established in the direct final rule, and DOE must provide a public comment period of at least 110 days on this proposal. (42 U.S.C. 6316(b)(1); 42 U.S.C. 6295(p)(4)(A)-(B)) Not later than 120 days after issuance of the direct final rule, DOE shall withdraw the direct final rule if: (1) DOE receives one or more adverse public comments relating to the direct final rule or any alternative joint recommendation; and (2) based on the rulemaking record relating to the direct final rule, DOE determines that such adverse public comments or alternative joint recommendation may provide a reasonable basis for withdrawing the direct final rule. (42 U.S.C. 6316(b)(1); 42 U.S.C. 6295(p)(4)(C)) If DOE makes such a determination, DOE must proceed with the NOPR published simultaneously with the direct final rule and publish in the Federal Register the reasons why the direct final rule was withdrawn. (Id.)

After review of comments received, DOE has determined that it did not receive any adverse comments providing a basis for withdrawal described above for the direct final rule that is the subject of this document. As such, DOE did not withdraw this direct final rule and allowed it to become effective. Although not required under EPCA, where DOE does not withdraw a direct final rule, DOE customarily publishes a summary of the comments received during the 110-day comment period and its responses to those comments. This document contains such a summary, as well as DOE's responses to the comments.

II. Air-Cooled Commercial Unitary Air Conditioners and Heat Pumps Direct Final Rule

A. Background

Small, large, and very large commercial package air conditioning and heating equipment are covered equipment under EPCA. (42 U.S.C. 6311(1)(B)-(D)) Such equipment includes as equipment categories air-cooled commercial unitary air conditioners with a rated cooling capacity greater than or equal to 65,000 Btu/h and less than 760,000 Btu/h (“ACUACs”) and air-cooled commercial unitary heat pumps with a rated cooling capacity greater than or equal to 65,000 Btu/h and less than 760,000 Btu/h (“ACUHPs”) (excluding double-duct air conditioners and heat pumps), which are the subject of this rulemaking.²

² While ACUACs and ACUHPs with rated cooling capacity less than 65,000 Btu/h are included in the broader category of commercial unitary air conditioners and heat pumps (“CUACs and CUHPs”), they are not addressed in this rulemaking. The standards for ACUACs and ACUHPs with rated cooling capacity less than 65,000 Btu/h have been addressed in a separate rulemaking (see Docket No. EERE-2022-BT-STD-0008). Additionally, while double-duct air conditioners and heat pumps are air-cooled commercial package air conditioning and heating equipment, they are not addressed in this rulemaking. Double-duct systems will be addressed in a separate rulemaking process. Accordingly, all references within this direct final rule to ACUACs and ACUHPs exclude equipment with rated cooling capacity less than 65,000 Btu/h and double-duct systems.

In a direct final rule published in the Federal Register on January 15, 2016 (“January 2016 Direct Final Rule”), DOE prescribed the current energy conservation standards for ACUACs and ACUHPs manufactured on and after January 1, 2023.³ 81 FR 2420. These standards are set forth in DOE's regulations at title 10 of the Code of Federal Regulations (“CFR”) section 431.97(b).

³ The January 2016 Direct Final Rule adopted a two-tiered standard approach that applied a first tier of minimum efficiency levels for compliance on January 1, 2018, and a second tier of higher minimum efficiency levels for compliance on January 1, 2023. 81 FR 2420, 2489-2490, 2531 (Jan. 15, 2016).

DOE's current energy conservation standards are expressed in terms of integrated energy efficiency ratio (“IEER”) for the cooling efficiency of ACUACs and ACUHPs, and in terms of coefficient of performance (“COP”) for the heating efficiency of ACUHPs. (See 10 CFR 431.97(b)) To demonstrate compliance with the current energy conservation standards, manufacturers must use the test procedure provided at 10 CFR part 431, subpart F, appendix A (“appendix A”), Uniform Test Method for the Measurement of Energy Consumption of Commercial Package Air Conditioning and Heating Equipment (Excluding Air-Cooled Equipment With a Cooling Capacity Less Than 65,000 Btu/h).

Since publication of the January 2016 Direct Final Rule, the American Society of Heating, Refrigerating, and Air-Conditioning Engineers (“ASHRAE”) published an updated version of ASHRAE Standard 90.1 (“ASHRAE Standard 90.1-2016”), which updated the minimum efficiency levels for ACUACs and ACUHPs to align with the first tier of minimum efficiencies adopted by DOE in the January 2016 Direct Final Rule (which had a compliance date of January 1, 2018). ASHRAE subsequently published another updated version of ASHRAE Standard 90.1 (“ASHRAE Standard 90.1-2019”), which updated the minimum efficiency levels for ACUACs and ACUHPs to align with both tiers adopted by DOE in the January 2016 Direct Final Rule (i.e., specifying two tiers of minimum levels for ACUACs and ACUHPs, with a January 1, 2023, compliance date for the second tier).⁴

⁴ ASHRAE Standard 90.1-2022 was published in January 2023, but it did not affect the standards being considered in this rulemaking or trigger DOE for this equipment.

On May 12, 2020, DOE began its six-year-lookback review for ACUACs and ACUHPs by publishing in the Federal Register an energy conservation standards (“ECS”) request for information (“RFI”) (referred to hereafter as the “May 2020 ECS RFI”).⁵ 85 FR 27941. The May 2020 ECS RFI sought information to help DOE inform its decisions, consistent with its obligations under EPCA. DOE received multiple comments from interested stakeholders in response to the May 2020 ECS RFI, which prompted DOE to publish a test procedure and energy conservation notice RFI (referred to hereafter as the “May 2022 TP/ECS RFI”) in the Federal Register on May 25, 2022, to investigate additional aspects of the ACUAC and ACUHP test procedure and energy conservation standards. 87 FR 31743.

⁵ The May 2020 ECS RFI also addressed commercial warm air furnaces, a separate type of covered equipment which was subsequently handled in a different rulemaking proceeding (see Docket No. EERE-2019-BT-STD-0042 in www.regulations.gov).

On July 29, 2022, DOE published in the Federal Register a notice of intent to establish a working group for commercial unitary air conditioners and heat pumps to negotiate proposed test procedures and amended energy conservation standards for this equipment (“July 2022 Notice of Intent”). 87 FR 45703. The Appliance Standards and Rulemaking Federal Advisory Committee (“ASRAC”) established the ASRAC ACUAC/HP Working Group (hereinafter referred to as “the ACUAC/HP Working Group”) in accordance with the Federal Advisory Committee Act (“FACA”) (5 U.S.C. App 2) and the Negotiated Rulemaking Act (“NRA”) (5 U.S.C. 561-570, Pub. L. 104-320). The purpose of the ACUAC/HP Working Group was to discuss, and if possible, reach consensus on recommended amendments to the test procedures and energy conservation standards for ACUACs and ACUHPs. The ACUAC/HP Working Group consisted of 14 voting members, including DOE. (See appendix A, Working Group Members, Document No. 65 in Docket No. EERE-2022-BT-STD-0015) On December 15, 2022, the ACUAC/HP Working Group signed a term sheet (“ACUAC/HP Working Group TP Term Sheet”) of recommendations regarding ACUAC and ACUHP test procedures, including two new efficiency metrics: integrated ventilation, economizing, and cooling (“IVEC”) and integrated ventilation and heating efficiency (“IVHE”). (See Id.)

The ACUAC/HP Working Group met five times to discuss energy conservation standards for ACUACs and ACUHPs. These meetings took place on February 22-23, March 21-22, April 12-13, April 26-27, and May 1, 2023. As a result of these efforts, the ACUAC/HP Working Group successfully reached consensus on recommended energy conservation standards in terms of the new IVEC and IVHE metrics for ACUACs and ACUHPs. On May 1, 2023, the ACUAC/HP Working Group signed a term sheet (“ACUAC/HP Working Group ECS Term Sheet”) outlining its recommendations regarding ACUAC and ACUHP standards in terms of the new efficiency metrics, IVEC and IVHE, which ASRAC approved on October 17, 2023.⁶

⁶ The ACUAC/HP Working Group ECS Term Sheet is available at www.regulations.gov/document/EERE-2022-BT-STD-0015-0087.

DOE determined that the ACUAC/ACUHP Working Group statement containing recommendations with respect to energy conservation standards for ACUACs and ACUHPs were in accordance with the statutory requirements of 42 U.S.C. 6295(p)(4)(A); 42 U.S.C. 6316(b)(1) for the issuance of a direct final rule and published a direct final rule in the Federal Register on May 20, 2024 (“May 2024 Direct Final Rule”). 89 FR 44052, 44064-44065. DOE simultaneously published a final rule in the Federal Register amending the current test procedure, Appendix A, to incorporate by reference the most recent version of the industry test procedure, AHRI 340/360-2022, for ACUACs, ACUHPs, evaporatively-cooled commercial unitary air conditioners (“ECUACs”), and water-cooled commercial unitary air conditioners (“WCAUCs”) and establishing a new test procedure appendix A1 to subpart F of 10 CFR 431.96 (“appendix A1”) referencing a new industry test procedure, AHRI 1340-2023, for any standards denominated in terms of IVEC and IVHE. (“May 2024 TP Final Rule”). 89 FR 43986 (May 20, 2024). Accordingly, DOE adopted the recommended efficiency levels for ACUACs and ACUHPs as the amended standard levels in the May 2024 Direct Final Rule. 89 FR 44052, 44135 (May 20, 2024).

The standards adopted in the May 2024 Direct Final Rule apply to the equipment classes listed in table II.1 and that are manufactured in, or imported into, the United States starting on January 1, 2029. The May 2024 Direct Final Rule provides a detailed discussion of DOE's analysis of the benefits and burdens of the amended standards pursuant to the criteria set forth in EPCA. Id. at 89 FR 44124-44134.

Table II.1—Energy Conservation Standards for ACUACs and ACUHPs
[Compliance Starting January 1, 2029]
Cooling capacity | Subcategory | Supplementary heating type | Minimum efficiency
≥65,000 Btu/h and <135,000 Btu/h | AC | Electric Resistance Heating or No Heating All Other Types of Heating | IVEC = 14.3 IVEC = 13.8
| HP | All Types of Heating | IVEC = 13.4 IVHE = 6.2
≥135,000 Btu/h and <240,000 Btu/h | AC | Electric Resistance Heating or No Heating All Other Types of Heating | IVEC = 13.8 IVEC = 13.3
| HP | All Types of Heating | IVEC = 13.1 IVHE = 6.0
≥240,000 Btu/h and <760,000 Btu/h | AC | Electric Resistance Heating or No Heating All Other Types of Heating | IVEC = 12.9 IVEC = 12.2
| HP | All Types of Heating | IVEC = 12.1 IVHE = 5.8

As required by EPCA, DOE also simultaneously published a NOPR proposing the identical standard levels contained in the May 2024 Direct Final Rule. 89 FR 43770 (May 20, 2024). DOE considered whether any adverse comment received during the 110-day comment period following the publication of the May 2024 Direct Final Rule provided a reasonable basis for withdrawal of the direct final rule under the provisions in 42 U.S.C. 6295(p)(4)(C) and 42 U.S.C. 6316(b)(1).

III. Comments on the Direct Final Rule

As discussed in section I of this document, not later than 120 days after publication of a direct final rule, DOE shall withdraw the direct final rule if: (1) DOE receives one or more adverse public comments relating to the direct final rule or any alternative joint recommendation; and (2) based on the rulemaking record relating to the direct final rule, DOE determines that such adverse public comments or alternative joint recommendation may provide a reasonable basis for withdrawing the direct final rule. (42 U.S.C. 6316(b)(1); 42 U.S.C. 6295(p)(4)(C)(i))

DOE received comments in response to the May 2024 Direct Final Rule from the interested parties listed in table III.1.

Table III.1—List of Commenters With Written Submissions in Response to the May 2024 Direct Final Rule
Commenter(s) | Abbreviation | Comment No. in the docket | Commenter type
Julian Anderson | Anderson | 102 | Individual.
Anonymous | Anonymous | 103 | Individual.
Appliance Standards Awareness Project, the American Council for an Energy-Efficient Economy, and the Northwest Energy Efficiency Alliance | ASAP, ACEEE, and NEEA | 106 | Efficiency Advocacy Organizations.
Pacific Gas and Electric Company (PG&E), San Diego Gas and Electric (SDG&E), and Southern California Edison (SCE) (collectively referred to as the California Investor-Owned Utilities) | CA IOUs | 104 * and 105 | Utilities.
* The CA IOUs submitted a duplicate comment in response to the NOPR that accompanied the direct final rule. Therefore, both comment submissions are included in this table.

A parenthetical reference at the end of a comment quotation or paraphrase provides the location of the item in the public record.⁷ The following sections discuss the substantive comments DOE received on the May 2024 Direct Final Rule, as well as DOE's determination that the comments do not provide a reasonable basis for withdrawal of the direct final rule.

⁷ The parenthetical reference provides a reference for information located in the docket of DOE's rulemaking to develop energy conservation standards for the subject ACUACs and ACUHPs. (Docket No. EERE-2022-BT-STD-0015, which is maintained at: www.regulations.gov). The references are arranged as follows: (commenter name, comment docket ID number at page of that document).

A. General Comments

ASAP, ACEEE, and NEEA and the CA IOUs supported the standards in the May 2024 Direct Final Rule, as they align with the levels prescribed in Recommendation #1 of the ACUAC/HP Working Group ECS Term Sheet. (ASAP, ACEEE, and NEEA, No. 106 at p. 1; CA IOUs, Nos. 104 and 105 at pp. 1-2) The CA IOUs supported the effective date of January 1, 2029, for these standards. (CA IOUs, Nos. 104 and 105 at p. 2)

ASAP, ACEEE, and NEEA commented that the new efficiency metrics, IVEC and IVHE, would improve the representativeness of the efficiency ratings and better capture the total energy consumption of the cooling and heating seasons. (ASAP, ACEEE, and NEEA, No. 106 at p. 1) ASAP, ACEEE, and NEEA commented that the standards would reduce national energy consumption, cut carbon emissions, and provide net present value savings for consumers. (Id.) ASAP, ACEEE, and NEEA commented that small-capacity ACUACs have the largest market share and would use almost 23 percent less energy with the amended standards than ones just meeting the current standard. (Id.) ASAP, ACEEE, and NEEA further commented that the amended standards would provide large life-cycle cost savings for consumers, with short payback periods relative to the lifetime of ACUACs and ACUHPs. (Id. at p. 2)

Anderson supported the May 2024 Direct Final Rule, stating that it would be the next step towards greater energy efficiency and emissions reductions and that it would drive innovation to support economic savings and a more sustainable environment. (Anderson, No. 102 at p. 1)

DOE agrees with these comments which are in accord with the amended standards set forth in the May 2024 Direct Final Rule.

An anonymous commenter stated that ASHRAE 241 standards or better must be adopted. (Anonymous, No. 103 at p. 1)

In response to the anonymous commenter, ASHRAE Standard 241, Control of Infectious Aerosols, (“ASHRAE 241”) addresses the design, installation, commissioning, and maintenance of HVAC systems to control the spread of infectious aerosols. As such, the provisions of ASHRAE 241 are outside the scope of consideration for this rulemaking. Therefore, DOE has determined that the comment regarding adoption of ASHRAE 241 provided by this anonymous commenter does not provide a reasonable basis to withdraw the May 2024 Direct Final Rule.

B. Certification

The CA IOUs urged DOE to initiate a certification rulemaking at its earliest convenience such that Recommendation #2 of the ACUAC/HP Working Group ECS Term Sheet could be implemented allowing for certification of ACUACs and ACUHPs using the new metrics and reporting fields. (CA IOUs, No. 104 and 105 at p. 2) The CA IOUs specifically requested that manufacturers publicly certify the crankcase heat wattage for each compressor stage, and the 5 °F heating capacity and COP, if applicable. (Id.) The CA IOUs commented that the early implementation of a certification rulemaking would clarify the certification requirements and process and facilitate early compliance for manufacturers before the amended standards' effective date of January 1, 2029. (Id.)

In response, DOE acknowledges that certification data will be required for ACUACs and ACUHPs; however, DOE did not amend the existing or adopt new certification or reporting requirements for ACUACs and ACUHPs in the May 2024 Direct Final Rule. 89 FR 44052, 44132 (May 20, 2024). Instead, DOE may consider proposals to establish associated certification requirements and reporting for ACUACs and ACUHPs under a separate, future rulemaking regarding appliance and equipment certification.

IV. Impact of Any Lessening of Competition

EPCA directs DOE to consider the impact of any lessening of competition, as determined in writing by the Attorney General of the United States (“Attorney General”), that is likely to result from a standard. (42 U.S.C. 6316(b)(1); 42 U.S.C. 6295(p)(4)(A)(i); 42 U.S.C. 6313(a)(6)(B)(ii)(V)) To assist the Attorney General in making this determination, DOE provided the Department of Justice (“DOJ”) with copies of the May 2024 Direct Final Rule, the corresponding NOPR, and the May 2024 DirectFinal Rule Technical Support Document for review. DOE has published DOJ's comments at the end of this document in appendix A.

In its letter responding to DOE, DOJ concluded that, based on its review, the proposed energy conservation standards in the Direct Final Rule are unlikely to have a significant adverse impact on competition.

V. Conclusion

In summary, based on the previous discussion, DOE has determined that the comments received in response to the direct final rule for amended energy conservation standards for the subject ACUACs and ACUHPs do not provide a reasonable basis for withdrawal of the direct final rule. As a result, the energy conservation standards set forth in the direct final rule became effective on September 17, 2024. Compliance with these standards is required on and after January 1, 2029.

Signing Authority

This document of the Department of Energy was signed on September 20, 2024, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 23, 2024.
Treena V. Garrett
Federal Register Liaison Officer, U.S. Department of Energy.

Note: The following appendix will not appear in the Code of Federal Regulations.

Appendix A

BILLING CODE 6450-01-P

[FR Doc. 2024-22081 Filed 9-27-24; 8:45 am]

BILLING CODE 6450-01-C